FEDERAL COMMUNICATIONS COMMISSION

47 CFR Part 11

[PS Docket No. 15-94; PS Docket No. 15-91; DA 16-482]

Rules Regarding the Emergency Alert System and Wireless Emergency Alerts

AGENCY: Federal Communications Commission.

ACTION: Proposed rule; extension of comment and reply comment deadlines.

SUMMARY: In this document, the Public Safety and Homeland Security Bureau (Bureau) extends the deadline for filing comments and reply comments on its Emergency Alert System (EAS) and Wireless Emergency Alerts (WEA) Notice of Proposed Rulemaking (Emergency Alerting NPRM), which sought comment on proposed changes in four areas: Improving alerting organization at the state and local levels; building effective community-based public safety exercises; ensuring that alerting mechanisms are able to leverage advancements in technology, including IP-based technologies; and securing the EAS against accidental misuse and malicious intrusion.

DATES: The comment period for the proposed rule published at 81 FR 15792, March 24, 2016 is extended. Comments are due on or before June 8, 2016, and reply comments are due on or before July 8, 2016.

ADDRESSES: You may submit comments to the Emergency Alerting NPRM, identified by PS Docket Nos. 15-94 and 15-91, by any of the following methods:

• Federal eRulemaking Portal: http://www.regulations.gov. Follow the instructions for submitting comments.

• Federal Communications Commission's Web site: http://fjallfoss.fcc.gov/ecfs2/. Follow the instructions for submitting comments.

• Paper Filers: Parties that choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th St. SW., Washington, DC 20554.

• People with Disabilities: Contact the FCC to request reasonable accommodations (accessible format documents, sign language interpreters, CART, etc.) by email: FCC504@fcc.gov or phone: 202-418-0530 or TTY: 202-418-0432.

FOR FURTHER INFORMATION CONTACT: Lisa Fowlkes, Deputy Bureau Chief, Public Safety and Homeland Security Bureau, at (202) 418-7452, or by email at Lisa.Fowlkes@fcc.gov.

SUPPLEMENTARY INFORMATION: This is a summary of the Bureau's Order in PS Docket Nos. 15-94 and 15-91, DA 16-482, adopted and released on May 5, 2016, and pertaining to the proposed rules published March 24, 2016 (81 FR 15792). The complete text of this document is available for public inspection and copying from 8 a.m. to 4:30 p.m. ET Monday through Thursday or from 8 a.m. to 11:30 a.m. ET on Fridays in the FCC Reference Information Center, 445 12th Street SW., Room CY-A257, Washington, DC 20554. The complete text is also available on the Commission's Web site at http://transition.fcc.gov/Daily_Releases/Daily_Business/2016/db0505/DA-16-482A1.pdf, or by using the search function on the ECFS Web page at http://www.fcc.gov/cgb/ecfs/.

Synopsis

The Bureau released an Order on May 5, 2016, which extends the comment and reply comment filing deadlines for the Emergency Alerting NPRM, 81 FR 15792, March 24, 2016. The Order responds to requests from Monroe Electronics, Inc., the National Alliance of State Broadcasters Associations, the Broadcast Warning Working Group, and the Washington State SECC seeking an extension of the comment period. Pursuant to Sections 4(i) of the Communications Act of 1934, as amended, 47 U.S.C. 154(i), and Sections 0.191, 0.392, and 1.46 of the Commission's rules, 47 CFR 0.191, 0.392, and 1.46, the Bureau extends the deadline for filing comments until June 8, 2016, and extends the deadline for filing reply comments until July 8, 2016.

Federal Communications Commission.
Lisa M. Fowlkes,
Deputy Bureau Chief, Public Safety and Homeland Security Bureau.

[FR Doc. 2016-11232 Filed 5-12-16; 8:45 am]

BILLING CODE 6712-01-P